DEPARTMENT OF AGRICULTURE

Commodity Credit Corporation

Domestic Sugar Program—2022-Crop Cane Sugar Marketing Allotments and Cane and Beet Processor Allocations

AGENCY: Commodity Credit Corporation (CCC), USDA.

ACTION: Notice.

SUMMARY: The United States Department of Agriculture (USDA) is issuing this notice to revise State cane sugar allotments, revise company allocations to sugar beet and sugar cane processors, and reassign some cane sugar marketing allotment to raw cane sugar imports already anticipated. This applies to all domestic beet and cane sugar marketed for human consumption in the United States from October 1, 2021, through September 30, 2022.

FOR FURTHER INFORMATION CONTACT: Kent Lanclos, telephone, (202) 720-0114; or email, kent.lanclos@usda.gov. Persons with disabilities who require alternative means for communication should contact the USDA Target Center at (202) 720-2600 (voice).

SUPPLEMENTARY INFORMATION: On September 30, 2021, USDA announced the initial fiscal year 2022 (FY 2022) overall sugar marketing allotment quantity (OAQ), which was established at 10,370,000 short tons, raw value, (STRV). This was equal to 85 percent of the estimated quantity of sugar for domestic human consumption for FY 2022 of 12,200,000 STRV, as forecast in the September 2021 World Agricultural Supply and Demand Estimates report. The Agricultural Adjustment Act of 1938, as amended, requires that 54.35 percent of the OAQ be distributed among beet processors and 45.65 percent be distributed among the sugar cane States and cane processors.

On December 22, 2021, USDA: (1) Increased the FY 2022 OAQ to 10,802,657 STRV; (2) consequently revised the cane and beet sector marketing allotments, the State cane sugar marketing allotments, and cane and beet processor allocations according to formulas contained in the authorizing legislation for the Sugar Program; ¹ and (3) transferred allocations from beet processors with surplus allocation to those in need of additional allocation. USDA determined that no reassignment of allotments among sugar cane States and allocations among cane processors was necessary at that time.

¹ The authority for the Sugar Program is in 7 U.S.C. 1359aa-1359jj, 7272, and 8110; 15 U.S.C. 714b and 714c.

In accordance with section 359e of the Agricultural Adjustment Act of 1938, after evaluating again each sugar beet processor's ability to market its full allocation, USDA is transferring FY 2022 allocations from sugar beet processors with surplus allocation to those in need of additional allocation. This transfer is presented in the table below. USDA is not reassigning any FY 2022 beet allocations to raw cane sugar imports at this time, given the uncertainty of beet sugar production quantities from new crop sugar beets in the final 2 months (August through September) of FY 2022.

USDA has also determined that domestic cane sugar supplies are inadequate to fill the FY 2022 cane sugar marketing allotment. In accordance with section 359e of the Agricultural Adjustment Act of 1938, USDA is reassigning 600,000 STRV of this deficit to raw cane sugar imports already anticipated under the FY 2022 tariff-rate quotas (TRQ) for raw cane sugar, given the absence of any CCC stocks of sugar.

FY 2022 Overall Beet and Cane Sugar Allotments and Allocations
[Short tons, raw value]
Distribution | FY 2022 allocations as of November 2021 | Reassignments: Reassigned amount | Reassignments: Adjusted FY 2022 allocations as of May 2022
Beet Sugar | 5,871,244 | 0 | 5,871,244
Cane Sugar | 4,931,413 | −600,000 | 4,331,413
Total OAQ | 10,802,657 | −600,000 | 10,202,657
Beet Processors Marketing Allocations:
Amalgamated Sugar Co | 1,287,839 | 72,872 | 1,360,711
American Crystal Sugar Co | 2,072,759 | −53,797 | 2,018,962
Michigan Sugar Co | 714,025 | −102,846 | 611,179
Minn-Dak Farmers Co-op | 472,332 | 81,481 | 553,812
So. Minn Beet Sugar Co-op | 715,009 | −25,009 | 690,000
Western Sugar Co | 551,388 | 32,825 | 584,212
Wyoming Sugar Co. LLC | 57,893 | −5,525 | 52,368
Total Beet Sugar | 5,871,244 | 0 | 5,871,244
State Cane Sugar Allotments:
Florida | 2,650,522 | −474,023 | 2,176,499
Louisiana | 2,050,477 | −55,324 | 1,995,153
Texas | 230,414 | −70,654 | 159,761
Total Cane Sugar | 4,931,413 | −600,000 | 4,331,413
Cane Processors' Marketing Allocation:
Florida
Florida Crystals | 1,091,290 | −296,058 | 795,231
Growers Co-op of FL | 476,790 | −75,879 | 400,911
U.S. Sugar Crop | 1,082,443 | −102,085 | 980,357
Total | 2,650,522 | −474,023 | 2,176,499
Louisiana
Louisiana Sugar Cane Products, Inc | 1,423,506 | −33,214 | 1,390,292
M.A. Patout & Sons | 626,971 | −22,110 | 604,861
Total | 2,050,477 | −55,324 | 1,995,153
Texas
Rio Grande Valley | 230,414 | −70,654 | 159,761

These FY 2022 sugar marketing allotment program actions will not prevent any domestic sugar cane or sugar beet processor from marketing all its FY 2022 sugar supply. USDA will closely monitor stocks, consumption, imports, and all sugar market and program variables on an ongoing basis and may make further program adjustments during FY 2022, if needed.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and TTY) or (844) 433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Zach Ducheneaux,
Executive Vice President, Commodity Credit Corporation.

[FR Doc. 2022-12274 Filed 6-6-22; 8:45 am]

BILLING CODE 3410-05-P